DEPARTMENT OF ENERGY

Federal Energy Regulatory Commission

[Docket No. IC18-12-000]

Commission Information Collection Activities (FERC-566); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-566 (Annual Report of a Utility's 20 Largest Purchasers).

DATES: Comments on the collection of information are due June 11, 2018.

ADDRESSES: You may submit comments (identified by Docket No. IC18-12-000) by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-566 (Annual Report of a Utility's 20 Largest Purchasers).

OMB Control No.: 1902-0114.

Type of Request: Three-year extension of the FERC-566 information collection requirements with no changes to the current reporting requirements.

Abstract: The Federal Power Act (FPA), as amended by the Public Utility Regulatory Policies Act of 1978 (PURPA), mandates federal oversight and approval of certain electric corporate activities to ensure that neither public nor private interests are adversely affected. Accordingly, the FPA proscribes related information filing requirements to achieve this goal. Such filing requirements are found in the Code of Federal Regulations (CFR), specifically in 18 CFR 131.31, and serve as the basis for the FERC-566.

FERC-566 implements FPA requirements that each public utility annually publish a list of the 20 purchasers which purchased the largest annual amounts of electric energy sold by such public utility during any of the three previous calendar years. The public disclosure of this information provides the information necessary to determine whether an interlocked position is with any of the 20 largest purchasers of electric energy. Similar to the Form 561,¹ the FPA identifies who must file the FERC-566 report and sets the filing deadline.

¹ FERC Form No. 561 (Annual Report of Interlocking Directorates), OMB Control No. 1902-0099.

Type of Respondents: Public utility.

Estimate of Annual Burden: ² The Commission estimates the annual public reporting burden for the information collection as:

² “Burden” is defined as the total time, effort, or financial resources expended by persons to generate, maintain, retain, or disclose or provide information to or for a Federal agency. For further explanation of what is included in the information collection burden, reference 5 Code of Federal Regulations 1320.3.

³ The estimates for cost per response are derived using the following formula: Average Burden Hours per Response * $76.50 per Hour = Average Cost per Response. The figure comes from the 2017 FERC average hourly cost (for wages and benefits) of $76.50 (and an average annual salary of $158,754). Commission staff is using the FERC average hourly cost because we consider any reporting completed in response to the FERC-566 to be compensated at rates similar to the work of FERC employees.

FERC-566 (Annual Report of a Utility's 20 Largest Purchasers)
| Number of respondents | Annual number of responses per respondent | Total number of responses | Average burden & cost per response ³ | Total annual burden hours & total annual cost | Cost per respondent ($)
| (1) | (2) | (1) * (2) = (3) | (4) | (3) * (4) = (5) | (5) ÷ (1)
FERC-566 | 300 | 1 | 300 | 4 hrs.; $306 | 1,200 hrs.; $91,800 | $306

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 6, 2018.
Kimberly D. Bose,
Secretary.

[FR Doc. 2018-07556 Filed 4-11-18; 8:45 am]

BILLING CODE 6717-01-P